DEPARTMENT OF THE INTERIOR

Fish and Wildlife Service

[FWS-R9-IA-2009-N0132; 96300-1671-0000-P5]

Issuance of Permits

AGENCY: Fish and Wildlife Service, Interior.

ACTION: Notice of issuance of permits.

SUMMARY: We, the U.S. Fish and Wildlife Service (Service), have issued the following permits to conduct certain activities with endangered species and/or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
200284 | Thomas G. Dullinger | 74 FR 23201; May 18, 2009 | June 17, 2009
208672 | Bud A. Woodruff | 74 FR 21816, May 11, 2009 | June 22, 2009
208816 | Behrooz Taher | 74 FR 21817; May 11, 2009 | June 17, 2009
209672 | David J. Hemmings | 74 FR 20339, May 1, 2009 | June 22, 2009
209996 | Karl F. Kurz | 74 FR 20339, May 1, 2009 | June 22, 2009
210876 | Bruce P. Ford | 74 FR 20339, May 1, 2009 | June 22, 2009
211156 | Raymond L. Bunney | 74 FR 21817; May 11, 2009 | June 17, 2009
212475 | Colorado Buck | 74 FR 20339; May 1, 2009 | June 22, 2009
212705 | Kenneth M. Huffaker | 74 FR 21816; May 11, 2009 | June 17, 2009
213188 | Joseph M. Vargo | 74 FR 21817; May 11, 2009 | June 17, 2009
213650 | Mark C. Zimmerman | 74 FR 23201; May 18, 2009 | June 17, 2009

Marine Mammals
Permit number | Applicant | Receipt of application Federal Register notice | Permit issuance date
182542 | Bruce R. Schoeneweis | 73 FR 35707, June 24, 2008 | Dec. 5, 2008
186019 | Peter E. Seda | 73 FR 36891, June 30, 2008 | Dec. 5, 2008

Dated: June 26, 2009.
Lisa J. Lierheimer,
Senior Permit Biologist, Branch of Permits, Division of Management

[FR Doc. E9-15969 Filed 7-6-09; 8:45 am]

BILLING CODE 4310-55-S